ENVIRONMENTAL PROTECTION AGENCY

[FRL-7775-8]

Proposed CERCLA Administrative Cost Recovery Settlement; Denova Environmental Site

AGENCY: Environmental Protection Agency (EPA).

ACTION: Notice; request for public comment.

SUMMARY: In accordance with section 122(i) of the Comprehensive Environmental Response, Compensation, and Liability Act, as amended (CERCLA), 42 U.S.C. 9622(i), notice is hereby given of a proposed administrative settlement for recovery of past response costs concerning the Denova Environmental Site in Rialto, San Bernardino County, California with the following settling parties: Intercoastal, L.L.C., Michael L. Webster, John C. Webster, Laurence Webster, Amberwick Corporation, and Carol Cole. The settlement requires the settling parties to pay $640,000 to the United States Environmental Protection Agency (EPA). The settlement includes a covenant not to sue the settling party pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 75 Hawthorne Street, San Francisco, CA 94105.

DATES: Comments must be submitted on or before July 22, 2004.

ADDRESSES: The proposed settlement is available for public inspection at EPA Region IX, 75 Hawthorne Street, San Francisco, California. A copy of the proposed settlement may be obtained from Thanne Cox, EPA Region IX, 75 Hawthorne Street, ORC-3, San Francisco, CA 94105, telephone number 415-972-3908. Comments should reference the Denova Environmental Superfund Site, Rialto, California and EPA Docket No. 2004-11 and should be addressed to Thanne Cox at the above address.

FOR FURTHER INFORMATION CONTACT: Thanne Cox, Assistant Regional Counsel (ORC-3), Office of Regional Counsel, U.S. EPA Region IX, 75 Hawthorne Street, San Francisco, CA 94105; phone: (415) 972-3908; fax: (415) 947-3570; e-mail: cox.elizabeth@epa.gov.

Dated: June 10, 2004.
Keith Takata,
Director, Superfund Division, Region IX.

[FR Doc. 04-14091 Filed 6-21-04; 8:45 am]

BILLING CODE 6560-50-P